DEPARTMENT OF ENERGY

Western Area Power Administration

Post-2004 Resource Pool-Salt Lake City Area Integrated Projects

AGENCY: Western Area Power Administration, DOE.

ACTION: Notice of adjustment to final allocations.

SUMMARY: The Western Area Power Administration (Western), a Federal power marketing agency of the Department of Energy (DOE), announces an adjustment to its Salt Lake City Area Integrated Projects (SLCA/IP) Post-2004 Resource Pool Final Allocation of Power developed under the requirements of Subpart C—Power Marketing Initiative of the Energy Planning and Management Program (Program) Final Rule. Final allocations were published in the Federal Register on February 4, 2002. Information received since then has made it necessary to revise the allocations.

Adjusted final allocations are published to indicate Western's decisions prior to beginning the contractual phase of the allocation process. Firm electric service contracts, negotiated between Western and allottees, will permit delivery of power allocations from the October 2004 billing period through the September 2024 billing period.

DATES: The Adjusted Post-2004 Resource Pool Final Allocation of Power will become effective August 28, 2002, and will remain in effect through September 30, 2024.

ADDRESSES: All documents developed or retained by Western in developing the adjusted final allocations are available for inspection and copying at the CRSP Management Center, 150 East Social Hall Avenue, Suite 300, Salt Lake City, UT 84111.

SUPPLEMENTARY INFORMATION: Western published Final Post-2004 Resource Pool Allocation Procedures (Procedures) in the Federal Register (64 FR 48825, September 8, 1999) to implement Subpart C-Power Marketing Initiative of the Program's Final Rule (10 CFR part 905), published in the Federal Register (60 FR 54151, October 20, 1995). The Program, developed in part to implement Section 114 of the Energy Policy Act of 1992, became effective on November 20, 1995. The goal of the Program is to require planning and efficient electric energy use by Western's long-term firm power customers and to extend Western's firm power resource commitments. One aspect of the Program is to establish project-specific power resource pools and allocate power from these pools to new preference customers.

The Procedures, in conjunction with the Post-1989 Marketing Plan (51 FR 4844, February 7, 1986), establish the framework for allocating power from the SLCA/IP Post-2004 Power Pool.

Proposed allocations were published in the Federal Register (66 FR 31910, June 13, 2001). Public information/comment forums concerning the proposed allocations were held August 10, 15, 16, 21, and October 4, 2001. The public comment period closed October 11, 2001.

Final allocations were published in the Federal Register (67 FR 5113, February 4, 2002). Information received by Western since that date has indicated that misinterpretation of data by Western made it necessary to adjust these allocations.

I. Reason for Adjustment

Following publication of the final allocations, Western received information indicating that because of errors made in evaluating the data used to calculate the final allocations, three tribes' allocations were incorrect. Western has stated in the criteria that it would be consistent in determining the allocations of all tribes. It is necessary to adjust the allocations to correct these errors. The first of these is the San Carlos Apache Tribe (San Carlos). The San Carlos Apache Reservation is served by three utilities. Only one of these utilities currently receives Federal power that is used to serve the reservation. In calculating the allocation for San Carlos, the percentage of Federal power received by this utility was applied to San Carlos's total load. The result of this calculation was that San Carlos received a smaller allocation than it should have.

The second adjustment made was to the allocation of the Yavapai Prescott Tribe. The non-residential load information submitted with the Applicant Profile Data by Yavapai Prescott was misinterpreted resulting in only two commercial accounts being identified as tribally-owned and thus eligible for an allocation. However, a number of other tribal businesses, administrative offices, and eligible loads should have been included. These loads have been identified, and an adjustment made to Yavapai Prescott's allocation.

The third allottee to identify a problem was the Tohono O'odham Utility Authority (TOUA). TOUA is a tribal utility which currently receives an allocation of Federal power. The information available to Western and used to determine the percentage of TOUA's load served by its present Federal allocation was shown to be incorrect. This resulted in TOUA receiving a lower level of service in 2004 than other tribes. TOUA's allocation was adjusted by using the correct percentage of current Federal power in the calculations.

To maintain consistency in its treatment of all tribes Western believes it is necessary to make these corrections. Since the entire resource pool has been allocated, any adjustment to an allocation results in all of the allocations being changed. The result of these adjustments is that other tribes' allocations are reduced slightly from the previously published amounts. With these adjustments, the tribes' SLCA/IP allocations, combined with existing and future Western hydropower benefits, were reduced slightly to approximately 55.2 percent of eligible load in the Summer season and 57.2 percent in the Winter season based on the adjusted seasonal energy data submitted by each tribe.

Another result of recalculating the allocations is that the Kiabab Paiute Tribe (Kiabab) will not receive an allocation. The utility which serves Kiabab receives a greater portion of its power supply through its allocation than Western is able to provide to the Tribes.

II. Final Power Allocation

Since the proposed allocations were published in June 2001 and subsequently in February 2002, tribes have had sufficient time to review the allocations and point out any inconsistencies with the criteria. The following final power allocations are made in accordance with the Procedures. All of the allocations are subject to the execution of a firm electric service contract in accordance with the Procedures. Western will proceed to offer firm electric service contracts to the tribes receiving allocations in the amounts shown below.

The adjusted final allocations for Indian tribes and organizations are shown in this table.

Salt Lake City Area Projects Post-2004 Power Pool Final Allocations
Tribe | Summer energy (kWh) | Winter energy (kWh) | Summer CROD (kW) | Winter CROD (kW)
Alamo Navajo Chapter | 399,824 | 453,518 | 184 | 196
Canoncito Navajo Chapter | 292,937 | 335,242 | 135 | 145
Cocopah Indian Tribe | 2,779,230 | 2,454,829 | 1,281 | 1,058
Colorado River Indian Tribes | 12,969,838 | 8,747,829 | 5,978 | 3,772
Confederated Tribes of the Goshute Reservation | 84,952 | 144,200 | 39 | 62
Duckwater Shoshone Tribe | 149,225 | 156,069 | 69 | 67
Ely Shoshone Tribe | 168,395 | 299,306 | 78 | 129
Fort Mojave Indian Tribe | 612,855 | 631,886 | 282 | 272
Ft. McDowell Mojave-Apache Indian Community | 5,089,153 | 5,263,924 | 2,346 | 2,270
Gila River Indian Community | 30,202,512 | 30,918,295 | 13,920 | 13,330
Havasupai Tribe | 432,433 | 548,898 | 199 | 237
Hopi Tribe | 5,892,469 | 6,517,369 | 2,716 | 2,810
Hualapai Tribe | 1,357,114 | 1,411,736 | 625 | 609
Jicarilla Apache Tribe | 1,257,753 | 1,703,852 | 580 | 735
Las Vegas Paiute Tribe | 1,563,305 | 1,213,043 | 721 | 523
Mescalero Apache Tribe | 2,116,562 | 2,295,175 | 976 | 990
Nambe Pueblo | 126,990 | 151,509 | 59 | 65
Navajo Tribal Utility Authority | 45,155,581 | 56,535,996 | 20,812 | 24,375
Paiute Indian Tribe of Utah | 343,334 | 357,388 | 158 | 154
Pascua Yaqui Tribe | 2,864,577 | 2,393,821 | 1,320 | 1,032
Picuris Pueblo | 164,296 | 51,199 | 76 | 22
Pueblo De Cochiti | 401,422 | 520,585 | 185 | 224
Pueblo of Acoma | 911,224 | 950,635 | 420 | 410
Pueblo of Isleta | 2,381,563 | 2,572,647 | 1,098 | 1,109
Pueblo of Jemez | 464,155 | 613,561 | 214 | 265
Pueblo of Laguna | 1,610,018 | 1,745,884 | 742 | 753
Pueblo of Pojoaque | 451,379 | 628,599 | 208 | 271
Pueblo of San Felipe | 711,597 | 977,634 | 328 | 422
Pueblo of San Ildefonso | 136,791 | 148,335 | 63 | 64
Pueblo of San Juan | 647,460 | 702,893 | 298 | 303
Pueblo of Sandia | 2,045,141 | 1,894,685 | 943 | 817
Pueblo of Santa Clara | 463,973 | 613,363 | 214 | 264
Pueblo of Santo Domingo | 980,004 | 1,016,679 | 452 | 438
Pueblo of Taos | 480,420 | 787,815 | 221 | 340
Pueblo of Tesuque | 1,361,547 | 1,387,845 | 628 | 598
Pueblo of Zia | 148,471 | 196,276 | 68 | 85
Pueblo of Zuni | 2,212,186 | 2,748,632 | 1,020 | 1,185
Quechan Indian Tribe | 1,095,632 | 1,691,226 | 505 | 729
Ramah Navajo Chapter | 650,681 | 954,717 | 300 | 412
Salt River Pima-Maricopa Indian Community | 35,026,125 | 31,034,316 | 16,144 | 13,380
San Carlos Apache Tribe | 9,008,264 | 8,766,824 | 4,152 | 3,780
Santa Ana Pueblo | 997,747 | 950,995 | 460 | 410
Skull Valley Band of Goshute Indians | 33,098 | 34,336 | 15 | 15
Southern Ute Indian Tribe | 2,435,344 | 2,723,333 | 1,122 | 1,174
Tohono O'Odham Utility Authority | 2,270,947 | 7,060,054 | 1,047 | 3,044
Tonto Apache Tribe | 829,541 | 810,134 | 382 | 349
Ute Indian Tribe | 991,484 | 1,596,382 | 457 | 688
Ute Mountain Ute Tribe | 1,034,236 | 1,177,682 | 477 | 508
White Mountain Apache Tribe | 12,632,129 | 13,914,290 | 5,822 | 5,999
Wind River Reservation | 1,050,627 | 1,138,890 | 484 | 491
Yavapai Apache Nation | 4,106,724 | 3,399,015 | 1,893 | 1,465
Yavapai Prescott Indian Tribe | 1,589,784 | 1,867,486 | 733 | 805
Yomba Shoshone Tribe | 68,129 | 70,678 | 31 | 30
Total | 203,251,178 | 217,281,509 | 93,679 | 93,680

IV. Review Under the Regulatory Flexibility Act

The Regulatory Flexibility Act, 5 U.S.C. 601-621, requires Federal agencies to perform a regulatory flexibility analysis if a final rule is likely to have a significant economic impact on a substantial number of small entities and there is a legal requirement to issue a general notice of proposed rulemaking. Western has determined that this action does not require a regulatory flexibility analysis since it is a rulemaking of particular applicability involving rates or services applicable to public property.

V. Environmental Compliance

Western has completed an environmental impact statement on the Program, pursuant to the National Environmental Policy Act of 1969 (NEPA). The Record of Decision was published in the Federal Register (60 FR 53181, October 12, 1995). Western's NEPA review assured all environmental effects related to these procedures have been analyzed.

VI. Determination 12866

DOE has determined that this is not a significant regulatory action because it does not meet the criteria of Executive Order 12866, 58 FR 51735. Western has an exemption from centralized regulatory review under Executive Order 12866; accordingly, this notice requires no clearance by the Office of Management and Budget.

VII. Small Business Regulatory Enforcement Fairness Act

Western has determined that this rule is exempt from congressional notification requirements under 5 U.S.C. 801 because the action is a rulemaking of particular applicability relating to rates or services and involves matters of procedure.

Dated: July 5, 2002.
Michael S. Hacskaylo,
Administrator.

[FR Doc. 02-19070 Filed 7-26-02; 8:45 am]

BILLING CODE 6450-01-P